FARM CREDIT ADMINISTRATION

12 CFR Parts 600 and 606

RIN 3052-AD08

Organization and Functions; Enforcement of Nondiscrimination on the Basis of Handicap in Programs or Activities Conducted by the Farm Credit Administration; Organization of the Farm Credit Administration

AGENCY: Farm Credit Administration.

ACTION: Notice of effective date.

SUMMARY: The Farm Credit Administration (FCA, we, Agency or our) amended our regulations to reflect internal organization changes and to update a statutory citation for the Farm Credit Act. In accordance with the law, the effective date of the rule is no earlier than 30 days from the date of publication in the Federal Register during which either or both Houses of Congress are in session.

DATES: Under the authority of 12 U.S.C. 2252, the regulation amending 12 CFR parts 600 and 606 published on November 5, 2015 (80 FR 68427) is effective January 25, 2016.

FOR FURTHER INFORMATION CONTACT: Michael T. Wilson, Policy Analyst, Office of Regulatory Policy, Farm Credit Administration, McLean, VA 22102-5090, (703) 883-4124, TTY (703) 883-4056, or Jane Virga, Senior Counsel, Office of General Counsel, Farm Credit Administration, McLean, VA 22102-5090, (703) 883-4071, TTY (703) 883-4056.

SUPPLEMENTARY INFORMATION: The Farm Credit Administration amended our regulations to reflect internal organization changes and to update a statutory citation for the Farm Credit Act. In accordance with 12 U.S.C. 2252, the effective date of the final rule is no earlier than 30 days from the date of publication in the Federal Register during which either or both Houses of Congress are in session. Based on the records of the sessions of Congress, the effective date of the regulations is January 25, 2016. (12 U.S.C. 2252(a)(9) and (10))

Dated: January 20, 2016.
Dale L. Aultman,
Secretary, Farm Credit Administration Board.

[FR Doc. 2016-01398 Filed 1-22-16; 8:45 am]

BILLING CODE 6705-01-P